DEPARTMENT OF THE INTERIOR

National Park Service

Final Legislative Environmental Impact Statement, Timbisha Shoshone Homeland, Death Valley National Park; Notice of Availability

SUMMARY: Pursuant to § 102(2)c of the National Environmental Policy Act of 1969 (Pub. L. 91-190, as amended), and the Council on Environmental Quality regulations (40 CFR parts 1500-1508), at the request of the Department of the Interior, the National Park Service, in cooperation with the Bureau of Land Management, Fish and Wildlife Service, and the Bureau of Reclamation has prepared a Final Legislative Environmental Impact Statement (LEIS) identifying and evaluating alternatives for a Timbisha Shoshone Homeland within and around Death Valley National Park, California. Potential impacts and appropriate mitigation strategies are identified and assessed for each alternative.

On July 19, 2000 the United States Senate passed the Timbisha Shoshone Homeland Act. A similar version of the Act was passed on October 17, 2000 by the House of Representatives, and on November 1, 2000 the Act was signed by the President. The plan will guide management actions in the transfer of lands and the development of cooperative agreements.

Proposal: The proposed Timbisha Shoshone Homeland (Alternative A-Preferred) would transfer approximately 7,500 acres of federal lands (identified as “multiple use” and managed by Death Valley National Park and the Bureau of Land Management in California and Nevada) into trust with the Department of the Interior for the creation of a tribal homeland. Permission would be sought for acquisition of two parcels (approximately 120 acres of former Indian allotted lands) in Saline Valley, California, and approximately 2,430 acres near Lida, Nevada, from private owners, as willing sellers. Also, water rights (either appurtenant or separately held) could be obtained from willing sellers. Cooperative activities at Ash Meadows National Wildlife Refuge would also be undertaken. Some portions of lands previously designated by Congress as “wilderness” would be also recognized as Timbisha Shoshone Natural and Cultural Preservation Area, but ownership would not be transferred.

Alternatives: Alternative B maintains the status quo, as described in Chapter 2, Description of Proposed Action, No Action, and Alternatives Considered But Not Brought Forward For Analysis. It provides a baseline from which to compare and evaluate the magnitude of proposed changes, and to measure the foreseeable environmental effects of those changes. This no-action concept follows the guidance of the Council on Environmental Quality, which describes the no-action alternative as no change from the current management direction or level of management intensity.

Background: Although initial scoping is not required for the preparation of a LEIS, an understanding of public concerns was desired. Accordingly, a notice was published in the Federal Register on April 19, 1999 announcing to the public the opportunity of commenting on a Draft Secretarial Report regarding the Homeland initiative. In addition, six public meetings were conducted (attended by 79 persons), and five informational meetings were held at the request of state congressional delegations and county commissioners and supervisors. Over 550 letters were received during the public scoping period. In October 1999, a copy of the 11-page Scoping Summary Document was mailed to everyone who attended the public meetings or commented during the process.

In October, 1999 the Department of the Interior determined that the NPS would serve as the lead agency for this conservation planning and environmental impact analysis process. As noticed in the Federal Register on May 12, 2000, a draft Timbisha Shoshone Homeland LEIS was prepared pursuant to the National Environmental Policy Act, and distributed by mail and libraries for a formal public review period ending August 21, 2000. In addition, the document was available via the internet at http//www3.iwvisp.com/blm/report. Five public meetings were conducted (attended by 100 persons), and 238 letters were received.

Availability: The Final Timbisha Shoshone Homeland LEIS was sent directly to the project mailing list. Copies are also available at park headquarters at Furnace Creek, field offices of BLM Ridgecrest, California and Tonopah, Nevada. Also, the Final LEIS will be posted on the internet at http://www.nps.gov/deva. Inquiries should be addressed to the Superintendent, Death Valley National Park, P.O. Box 579, Death Valley, California 92328.

All comments received throughout the conservation planning and environmental impact analysis process are archived and will be available for public review in the park's library. If individuals submitting comments requested that their name or/and address be withheld from public disclosure, it will be honored to the extent allowable by law. Such requests must be stated prominently in the beginning of the comments. There may also be circumstances wherein the NPS will withhold a respondent's identity as allowable by law. As always, the NPS will make available for public inspection all submissions from organizations or businesses and from persons identifying themselves as representatives or officials of organizations and businesses, and anonymous comments may not be considered.

Recommendation Process: A notice of final recommendations will be published in the Federal Register not sooner than thirty (30) days after the final document is distributed. This is expected to occur early in 2001. The National Park Service officials responsible for implementation will be the Superintendent, Death Valley National Park and the Regional Director, Pacific West Region; as well as the State Directors, Bureau of Land Management, Nevada and California; the Assistant Secretary for Indian Affairs; and the Bureau of Indian Affairs, Central California Agency.

Dated: January 9, 2001.
Patricia L. Neubacher,
Acting Regional Director, Pacific West Region.

[FR Doc. 01-2340 Filed 1-25-01; 8:45 am]

BILLING CODE 4310-70-P